DEPARTMENT OF THE INTERIOR

Fish and Wildlife Service

Notice of Availability of a Recommended Year 2000 Survey Protocol for the Endangered Quino Checkerspot Butterfly (Euphydryas editha quino)

AGENCY: Fish and Wildlife Service, Interior.

ACTION: Notice of availability; survey protocol.

SUMMARY: The Fish and Wildlife Service (Service) announces the availability of its recommended survey protocol for the 2000 field season for determining the presence/absence of the endangered Quino checkerspot butterfly. Using information gathered during 1999, we revised the “Survey Protocol for the Endangered Quino Checkerspot Butterfly (Euphydryas editha quino) for the 1999 Field Season” dated January 25, 1999. The current recommended protocol entitled “Year 2000 Survey Protocol for the Endangered Quino Checkerspot Butterfly (Euphydryas editha quino)” incorporates those modifications found to be appropriate, and replaces the 1999 protocol. We will annually review and modify this survey protocol as needed to ensure that the best scientific information is incorporated into the prescribed methodology.

DATES: Data and comments on the year 2000 survey protocol received by August 4, 2000, will be considered in the development of the 2001 survey protocol.

ADDRESSES: Copies of this protocol may be obtained from the Service's Region 1 World Wide Web Home Page at http://www.r1.fws.gov/text/quino.html or from the Field Supervisor, Carlsbad Fish and Wildlife Office, 2730 Loker Avenue West, Carlsbad, California 92008. Comments and materials concerning the survey protocol should be sent to the Field Supervisor at the above address.

FOR FURTHER INFORMATION CONTACT: Nancy Kehoe at the above address (telephone 760-431-9440, fax 760-431-9618).

SUPPLEMENTARY INFORMATION:

Background

The quino checkerspot butterfly was listed as an endangered species on January 16, 1997 (62 FR 2313) as result of loss and degradation of habitat, invasion by alien species, overgrazing, fires, poorly planned fire management practices, and off-road vehicle use. The historic range of the quino checkerspot butterfly extended from the Santa Monica Mountains east and south along the foothills of the Transverse and Peninsular Ranges in California, and south into Baja California, Mexico. Adults have been found from sea level to approximately 1,500 meters (5,000 feet) and populations can be found today in southern San Diego and southwestern Riverside Counties, California. Quino checkerspot butterflies can be observed from mid-February to mid-May, depending on weather. Quino checkerspot butterflies are generally associated with sage scrub, open chaparral, grasslands, and vernal pools; especially open or sparsely vegetated areas, hilltops and ridgelines, rocky outcrops, trails, and dirt roads.

We are seeking additional information to increase our understanding of Quino checkerspot butterfly ecology and biology throughout the species' range. We intend to annually review and modify as necessary the recommended survey protocol to ensure that the best scientific information is incorporated into the prescribed methodology. Therefore, data and comments on the year 2000 survey protocol that we receive by August 4, 2000, will be considered in the development of the 2001 quino survey protocol.

Dated: February 10, 2000.
Elizabeth H. Stevens,
Acting Manager, California/Nevada Operations Office, Sacramento, California.

[FR Doc. 00-3789 Filed 2-16-00; 8:45 am]

BILLING CODE 4310-55-P